ENVIRONMENTAL PROTECTION AGENCY

[EPA-HQ-OPP-2005-0061; FRL-8076-4]

Azinphos-methyl; Amending Existing Stocks Provisions of Distribution for Cranberry Growers

AGENCY: Environmental Protection Agency (EPA).

ACTION: Notice.

SUMMARY: This notice announces the order to amend the existing stocks provision as written in the cancellation order published in theFederal Register on March 29, 2006 (71 FR 15731) (FRL-7771-4) to allow the distribution and sale of end-use products containing the pesticide azinphos-methyl, for use on cranberries until August 15, 2006. This will allow distribution and sale for use on cranberries for the 2006 season, as contemplated by the March 29, 2006, cancellation order. The stop use date for these end-use products is still September 30, 2006, as provided in the March 29 order.

FOR FURTHER INFORMATION CONTACT: Tom Myers, Special Review and Reregistration Division (7508P), Office of Pesticide Programs, Environmental Protection Agency, 1200 Pennsylvania Ave., NW., Washington, DC 20460-0001; telephone number: (703) 308-8589; fax number: (703) 308-8041; e-mail address: myers.tom@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2005-0061. Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. Background

A. What Action is the Agency Taking?

This notice announces the order to amend the existing stocks provision as written in the cancellation order published in the Federal Register on March 29, 2006 (71 FR 15731) (FRL-7771-4) to allow the distribution and sale of end-use products containing the pesticide azinphos-methyl, for use on cranberries until August 15, 2006. This will allow sale for use on cranberries for the 2006 season, as EPA intended. The stop use date for these end-use products is still September 30, 2006, as published in the cancellation order on March 29, 2006.

Table 1. — Azinphos-methyl End-Use Products Bearing Instructions for Use on Cranberries
Registration No. | Product name | Company
264-733 | Guthion Solupak 50% Wettable Powder Insecticide | Bayer Cropscience
10163-78 10163-138 10163-139 10163-180 | Gowan Azinphos-M 50 WSB Gowan Azinphos-M 35 WP Gowan Azinphos-M 35 WSB Gowan Azinphos 50 PVA | Gowan Company
11678-53 66222-11 | Cotnion-Methyl Azinphos-methyl 50W | Makhteshim Chemical Works
51036-164 | Azinphos-methyl 50W | Microflo Company

Table 2 includes the names and addresses of record for the registrants that requested use terminations for their products, in sequence by EPA company number.

Table 2. — Registrants of Amended Azinphos-methyl Products
EPA Company No. | Company Name and Address
264 | Bayer CropScience 2 T.W. Alexander Drive, Research Triangle Park, North Carolina 27709
10163 | Gowan Company, P.O. Box 5569, Yuma, Arizona 85366-5569
11678 66222 | Makhteshim Chemical Works, 4515 Falls of Neuse Road, Suite 300, Raleigh, North Carolina 27609
51036 | Micro-Flo Corporation, LLC 530 Oak Court Drive, Memphis, Tennessee 38117

B. What is the Agency's Authority for Taking this Action?

Section 6(f)(1) of FIFRA provides that a registrant of a pesticide product may at any time request that any of its pesticide registrations be canceled or amended to terminate one or more uses. FIFRA further provides that, before acting on the request, EPA must publish for public comment a notice of receipt of any such request in the Federal Register.

III. Amendment to Existing Stocks Order

The cancellation order published in the Federal Register on March 29, 2006 (71 FR 15731) (FRL-7771-4) is hereby amended to allow the distribution and sale of existing stocks of the end-use products listed in Table 1, in Unit II.A. for use on cranberries until August 15, 2006. All other provisions of the March 29, 2006, order otherwise remain in effect.

List of Subjects

Environmental protection, Pesticides and pest.

Dated: June 28, 2006.
Debra Edwards,
Director, Special Review and Reregistration Division, Office of Pesticide Programs.

[FR Doc. E6-10452 Filed 7-3-06; 8:45 am]

BILLING CODE 6560-50-S